NATIONAL INDIAN GAMING COMMISSION

Paperwork Reduction Act

AGENCY: National Indian Gaming Commission.

ACTION: Notice.

SUMMARY: The National Indian Gaming Commission (NIGC), in accordance with the Paperwork Reduction Act of 1995, intends to submit to the Office of Management and Budget (OMB) a request to review and extend approval for the information collection activity associated with the submission of an annual audit report pursuant to 25 CFR 542.3(d) by Indian tribes conducting gaming under the Indian Gaming Regulatory Act. As to this information collection activity, the NIGC solicits public comment on: The need for the information; the practical utility of the information and whether the collection of information is necessary for the proper performance of NIGC functions; the accuracy of the burden estimate; and ways that the NIGC might minimize this burden, including the use of automated collection techniques or other forms of information technology.

DATES AND ADDRESSES: Comments regarding the NIGC's evaluation of the information collection activity and its request to OMB to extend approval for the information collection must be received by December 14, 2001. When providing comment, a respondent should specify the particular collection activity to which the comment pertains. Send comments to: National Indian Gaming Commission (Attn: Michele Mitchell), 1441 L Street NW., Suite 9100, Washington, DC 20005. The NIGC regulation to which the information collection pertains is available on the NIGC website, www.nigc.gov. The regulation is also available by written request to the NIGC (Attn: Michele Mitchell), 1441 L Street NW., Suite 9100, Washington, DC 20005, or by telephone request at (202) 632-7003. This is not a toll-free number. All other requests for information should be submitted to Michele Mitchell at the above address for the NIGC.

SUPPLEMENTARY INFORMATION: Title: Minimum Internal Control Standards.

OMB Number: 3141-0009.

Abstract: The Indian Gaming Regulatory Act, 25 U.S.C. 2701 et seq., authorizes the NIGC to promulgate regulations sufficient to shield Indian gaming from corrupting influences, to ensure that the tribes are the primary beneficiaries of gaming and to assure that Indian gaming is fair and honest. The NIGC's Minimum Internal Control standards provide a baseline from which to gauge whether a tribe has implemented controls sufficient to protect the assets of its gaming operation(s). The information required by 25 CFR 542.3(d) is essential to the Commission's ability to fulfill its oversight responsibilities. This evaluation may be completed within the annual financial audit of the gaming operation and does not require a separate audit of the gaming operation's internal control system.

Respondents: Indian tribal gaming operations.

Estimated Number of Respondents: 320.

Estimated Annual Responses: 320.

Estimated Annual Burden Hours per Respondent: 92 hrs.

Estimated Total Annual Burden on Respondents: 29,440 hours.

Jacqueline Agtuca,
Chief of Staff.

[FR Doc. 01-25830 Filed 10-12-01; 8:45 am]

BILLING CODE 7565-01-P